SUSQUEHANNA RIVER BASIN COMMISSION

Notice of Projects Approved for Consumptive Uses of Water

AGENCY: Susquehanna River Basin Commission.

ACTION: Notice of approved projects.

SUMMARY: This notice lists the projects approved by rule by the Susquehanna River Basin Commission during the period set forth in DATES.

DATES: May 1, 2009, through May 31, 2009.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued

1. EOG Resources, Inc., Pad ID: PHC 4H, ABR-20090501, Lawrence Township, Clearfield County, Pa., Consumptive Use of Up to 0.999 mgd, Approval Date: May 7, 2009.

2. EOG Resources, Inc., Pad ID: PHC 5H, ABR-20090502, Lawrence Township, Clearfield County, Pa., Consumptive Use of Up to 0.999 mgd, Approval Date: May 7, 2009.

3. EOG Resources, Inc., Pad ID: PHC 9H, ABR-20090503, Lawrence Township, Clearfield County, Pa., Consumptive Use of Up to 0.999 mgd, Approval Date: May 7, 2009.

4. Seneca Resources Corporation, Pad ID: Signor Pad A, ABR-20090504, Charleston Township, Tioga County, Pa., Consumptive Use of Up to 2.000 mgd, Approval Date: May 11, 2009.

5. Seneca Resources Corporation, Pad ID: Wilcox Pad F, ABR-20090505, Covington Township, Tioga County, Pa., Consumptive Use of Up to 2.000 mgd, Approval Date: May 11, 2009.

6. Fortuna Energy, Inc., Cease, Pad ID: ABR-20090506, Troy Township, Bradford County, Pa., Consumptive Use of Up to 3.000 mgd, Approval Date: May 13, 2009.

7. Fortuna Energy, Inc., Pad ID: Shedden D 26/27, ABR-20090507, Troy Township, Bradford County, Pa., Consumptive Use of 3.000 mgd, Approval Date: May 13, 2009.

8. Fortuna Energy, Inc., Pad ID: Harris M, ABR-20090508, Armenia Township, Bradford County, Pa., Consumptive Use of Up to 3.000 mgd, Approval Date: May 13, 2009.

9. Fortuna Energy, Inc., Pad ID: Bense, ABR-20090509, Troy Township, Bradford County, Pa., Consumptive Use of Up to 3.000 mgd, Approval Date: May 13, 2009.

10. Fortuna Energy, Inc., Pad ID: Phinney, ABR-20090510, Troy Township, Bradford County, Pa., Consumptive Use of Up to 3.000 mgd, Approval Date: May 13, 2009.

11. Alta Operating Company, LLC, Pad ID: Powers Pad Site, ABR-20090511, Forest Lake Township, Susquehanna River, Pa., Consumptive Use of Up to 3.000 mgd, Approval Date: May 14, 2009.

12. Anadarko E&P Company, LP, Pad ID: COP Tract 259 #1000H, ABR-20090513, Burnside Township, Centre County, Pa., Consumptive Use of Up to 5.000 mgd, Approval Date: Mar 14, 2009.

13. Chief Oil & Gas, LLC, Pad ID: Barto Unit #1H, ABR-20090514, Penn Township, Lycoming County, Pa., Consumptive Use of Up to 5.000 mgd, Approval Date: May 14, 2009.

14. Chief Oil & Gas, LLC, Pad ID: Harper Unit #1H, ABR-20090515, West Burlington Township, Bradford County, Pa., Consumptive Use of Up to 5.000 mgd, Approval Date: May 14, 2009.

15. Chief Oil & Gas, LLC, Pad ID: Jennings Unit #1H, ABR-20090516, West Burlington Township, Bradford County, Pa., Consumptive Use of Up to 5.000 mgd, Approval Date: May 14, 2009.

16. Chief Oil & Gas, LLC, Pad ID: Black Unit #1, ABR-20090517, Burlington Township, Bradford County, Pa., Consumptive Use of Up to 5.000 mgd, Approval Date: May 14, 2009.

17. EXCO-North Coast Energy, Inc., Pad ID: Lopatofsky, ABR-20090512, Clifford Township, Susquehanna County, Pa., Consumptive Use of Up to 1.000 mgd, Approval Date: May 14, 2009.

18. Chief Oil & Gas, LLC, Pad ID: Hutton Unit #1H, ABR-20090518, Chest Township, Clearfield County, Pa., Consumptive Use of Up to 5.000 mgd, Approval Date: May 18, 2009.

19. Chesapeake Appalachia, LLC, Pad ID: Ward, ABR-20090519, Burlington Township, Bradford County, Pa., Consumptive Use of Up to 7.500 mgd, Approval Date: May 19, 2009.

20. Chesapeake Appalachia, LLC, Pad ID: Hannan, ABR-20090520, Troy Township, Bradford County, Pa., Consumptive Use of Up to 7.500 mgd, Approval Date: May 19, 2009.

21. Chesapeake Appalachia, LLC, Pad ID: Isbell, ABR-20090521, Burlington Township, Bradford County, Pa., Consumptive Use of Up to 7.500 mgd, Approval Date: May 19, 2009.

22. Fortuna Energy, Inc., Pad ID: Knights, ABR-20090522, Troy Township, Bradford County, Pa., Consumptive Use of Up to 3.000 mgd, Approval Date: May 19, 2009.

23. Fortuna Energy, Inc., Pad ID: Harris A, ABR-20090523, Troy Township, Bradford County, Pa., Consumptive Use of Up to 3.000 mgd, Approval Date: May 19, 2009.

24. Chesapeake Appalachia, LLC, Pad ID: White, ABR-20090525, Auburn Township, Susquehanna County, Pa., Consumptive Use of Up to 7.500 mgd, Approval Date: May 21, 2009.

25. Fortuna Energy, Inc., Pad ID: Thomas F 38, ABR-20090524, Troy Borough, Bradford County, Pa., Consumptive Use of Up to 3.000 mgd, Approval Date: May 21, 2009.

26. Chesapeake Appalachia, LLC, Pad ID: Otten, ABR-20090526, Asylum Township, Bradford County, Pa., Consumptive Use of Up to 7.500 mgd, Approval Date: May 22, 2009.

27. Chesapeake Appalachia, LLC, Pad ID: Mowry, ABR-20090527, Tuscarora Township, Bradford County, Pa., Consumptive Use of Up to 7.500 mgd, Approval Date: May 22, 2009.

28. Chesapeake Appalachia, LLC, Pad ID: May, ABR-20090528, Granville Township, Bradford County, Pa., Consumptive Use of Up to 7.500 mgd, Approval Date: May 22, 2009.

29. Chesapeake Appalachia, LLC, Pad ID: John Barrett, ABR-20090529, Asylum Township, Bradford County, Pa., Consumptive Use of Up to 7.500 mgd, Approval Date: May 22, 2009.

30. Chesapeake Appalachia, LLC, Pad ID: James Barrett, ABR-20090530, Asylum Township, Bradford County, Pa., Consumptive Use of Up to 7.500 mgd, Approval Date: May 22, 2009.

31. Chesapeake Appalachia, LLC, Pad ID: Redling, ABR-20090531, Thompson Township, Susquehanna County, Pa., Consumptive Use of Up to 7.500 mgd, Approval Date: May 22, 2009.

32. Chesapeake Appalachia, LLC, Pad ID: Chancellor, ABR-20090532, Asylum Township, Bradford Count, Pa., Consumptive Use of Up to 7.500 mgd, Approval Date: May 22, 2009.

33. Chesapeake Appalachia, LLC, Pad ID: Clapper, ABR-20090533, Auburn Township, Susquehanna County, Pa., Consumptive Use of Up to 7.500 mgd, Approval Date: May 22, 2009.

34. Chesapeake Appalachia, LLC, Pad ID: Judd, ABR-20090534, Monroe Township, Bradford County, Pa., Consumptive Use of Up to 7.500 mgd, Approval Date: May 22, 2009.

35. Chesapeake Appalachia, LLC, Pad ID: VanNoy, ABR-20090535, Granville Township, Bradford County, Pa., Consumptive Use of Up to 7.500 mgd, Approval Date: May 22, 2009.

36. Cabot Oil and Gas Corporation, Pad ID: SevercoolB P1, ABR-20090536, Dimock Township, Susquehanna County, Pa., Consumptive Use of Up to 3.575 mgd, Approval Date: May 27, 2009.

37. Cabot Oil and Gas Corporation, Pad ID: Heitsman P1, ABR-20090537, Dimock Township, Susquehanna County, Pa., Consumptive Use of Up to 3.575 mgd, Approval Date: May 27, 2009.

38. Cabot Oil and Gas Corporation, Pad ID: Lathrop P1, ABR-20090538, Springville Township, Susquehanna County, Pa., Consumptive Use of Up to 3.575 mgd, Approval Date: May 27, 2009.

39. Cabot Oil and Gas Corporation, Pad ID: Ratzel P1, ABR-20090539, Dimock Township, Susquehanna County, Pa., Consumptive Use of Up to 3.575 mgd, Approval Date: May 27, 2009.

40. Cabot Oil and Gas Corporation, Pad ID: Smith P1, ABR-20090540, Springville Township, Susquehanna County, Pa., Consumptive Use of Up to 3.575 mgd, Approval Date: May 27, 2009.

41. Cabot Oil and Gas Corporation, Pad ID: Teel P1, ABR-20090541, Springville Township, Susquehanna County, Pa., Consumptive Use of Up to 3.575 mgd, Approval Date: May 27, 2009.

42. Cabot Oil and Gas Corporation, Pad ID: Teel P5, ABR-20090542, Springville Township, Susquehanna County, Pa., Consumptive Use of Up to 3.575 mgd, Approval Date: May 27, 2009.

43. Cabot Oil and Gas Corporation, Pad ID: Teel P6, ABR-20090543, Springville Township, Susquehanna County, Pa., Consumptive Use of Up to 3.575 mgd, Approval Date: May 27, 2009.

44. Cabot Oil and Gas Corporation, Pad ID: Hubbard P2, ABR-20090544, Dimock Township, Susquehanna County, Pa., Consumptive Use of Up to 3.5750 mgd, Approval Date: May 27, 2009.

45. Cabot Oil and Gas Corporation, Pad ID: Hubbard P1, ABR-20090545, Dimock Township, Susquehanna County, Pa., Consumptive Use of Up to 3.575 mgd, Approval Date: May 27, 2009.

46. Cabot Oil and Gas Corporation, Pad ID: Ely P1, ABR-20090546, Dimock Township, Susquehanna County, Pa., Consumptive Use of Up to 3.575 mgd, Approval Date: May 27, 2009.

47. Cabot Oil and Gas Corporation, Pad ID: Gesford P1, ABR-20090547, Dimock Township, Susquehanna County, Pa., Consumptive Use of Up to 3.575 mgd, Approval Date: May 27, 2009.

48. Cabot Oil and Gas Corporation, Pad ID: Greenwood P1, ABR-20090548, Dimock Township, Susquehanna County, Pa., Consumptive Use of Up to 3.575 mgd, Approval Date: May 27, 2009.

49. Cabot Oil and Gas Corporation, Pad ID: Gesford P3, ABR-20090549, Dimock Township, Susquehanna County, PA, Consumptive Use of Up to 3.575 mgd, Approval Date: May 27, 2009.

50. Cabot Oil and Gas Corporation, Pad ID: Gesford P4, ABR-20090550, Dimock Township, Susquehanna County, Pa., Consumptive Use of Up to 3.575 mgd, Approval Date: May 27, 2009.

51. Cabot Oil and Gas Corporation, Pad ID: LaRue P2, ABR-20090551, Dimock Township, Susquehanna County, Pa., Consumptive Use of Up to 3.575 mgd, Approval Date: May 27, 2009.

52. Cabot Oil and Gas Corporation, Pad ID: HeitsmanA P2, ABR-20090552, Dimock Township, Susquehanna County, Pa., Consumptive Use of Up to 3.575 mgd, Approval Date: May 27, 2009.

53. Cabot Oil and Gas Corporation, Pad ID: Rozanski P1, ABR-20090553, Dimock Township, Susquehanna County, Pa., Consumptive Use of Up to 3.575 mgd, Approval Date: May 27, 2009.

54. Cabot Oil and Gas Corporation, Pad ID: Smith P3, ABR-20090554, Dimock Township, Susquehanna County, Pa., Consumptive Use of Up to 3.575 mgd, Approval Date: May 27, 2009.

55. Chesapeake Appalachia, LLC, Pad ID: Przybyszewski, ABR-20090555, Auburn Township, Susquehanna County, Pa., Consumptive Use of Up to 7.500 mgd, Approval Date: May 29, 2009.

56. Chief Oil & Gas, LLC, Pad ID: Harris #1H, ABR-20090556, Burlington Township, Bradford County, Pa., Consumptive Use of Up to 5.000 mgd, Approval Date: May 29, 2009.

Authority: Public Law 91-575, 84 Stat. 1509 et seq., 18 CFR Parts 806, 807, and 808.

Dated: June 9, 2009.
Thomas W. Beauduy,
Deputy Director.

[FR Doc. E9-14295 Filed 6-17-09; 8:45 am]

BILLING CODE 7040-01-P